DEPARTMENT OF AGRICULTURE

Rural Utilities Service

[Docket #: RUS-23-WATER-0001]

Notice of Funding Opportunity for the Technical Assistance and Construction for Innovative Regional Wastewater Treatment Solutions Grant Pilot Program

AGENCY: Rural Utilities Service, USDA.

ACTION: Notice.

SUMMARY: The Rural Utilities Services (RUS or the Agency), an agency of the United States Department of Agriculture (USDA), announces its Technical Assistance and Construction for Innovative Regional Wastewater Treatment Solutions (TAC-RWTS) Grant Pilot Program application window for Fiscal Year (FY) 2023. Grants may be made to eligible entities for the study, design, or construction of regional wastewater systems for historically impoverished communities in areas that have had difficulty installing traditional wastewater treatment systems due to soil conditions. Solutions must be innovative and account for strategic management and regulatory models. Successful applications will be selected by the Agency for funding and subsequently awarded from available funds for the TAC-RWTS Grant Pilot Program. All applicants are responsible for any expenses incurred in developing their applications.

DATES: Completed applications must be filed through https://www.grants.gov/ by 11:59 p.m. Eastern Time (ET) on July 31, 2023. Late or incomplete applications will not be accepted.

ADDRESSES: Applications and all supporting documentation must be submitted electronically through Grants.gov via https://www.grants.gov. Instructions and additional resources, to include an Application Guide, are available at https://www.rd.usda.gov/programs-services/water-environmental-programs/technical-assistance-and-construction-innovative-regional-wastewater-treatment-solutions-tac-rwts, under the “To Apply” tab.

FOR FURTHER INFORMATION CONTACT: Christina Cerio, Community Programs Specialist, Water and Environmental Program, RUS, USDA, by email at water-RD@usda.gov or phone at (315) 403-3112. Persons with disabilities that require alternative means for communication should contact the USDA Target Center at (202) 720-2600 (voice) or the 711 Relay Service.

SUPPLEMENTARY INFORMATION:

Overview

Federal Awarding Agency Name: Rural Utilities Service.

Funding Opportunity Title: Technical Assistance and Construction for Innovative Regional Wastewater Treatment Solutions Grant Pilot Program for Fiscal Year 2023.

Announcement Type: Notice of Funding Opportunity (NOFO).

Funding Opportunity Number: TAC-RWTS-FY23.

Assistance Listing: 10.761.

Dates: Completed electronic applications and supporting materials must be filed through https://www.grants.gov/ by 11:59 p.m. ET on July 31, 2023. Late or incomplete applications will not be accepted.

Rural Development (RD) Key Priorities: The Agency encourages applicants to consider projects that will advance the following key priorities:

• Assisting rural communities recover economically through more and better market opportunities and through improved infrastructure;

• Ensuring all rural residents have equitable access to RD programs and benefits from RD funded projects; and

• Reducing climate pollution and increasing resilience to the impacts of climate change through economic support to rural communities.

A. Program Description

1. Purpose of the Program. Grants will be made to qualified regional consortiums to identify, evaluate, and construct economically feasible, regional wastewater systems for historically impoverished communities in areas which have had difficulty installing traditional wastewater treatment systems due to soil conditions. A successful applicant will be, or coordinate with, a regional university to solve untreated raw sewage issues with innovative technologies, while taking into consideration strategic management and regulatory models. Grants are for wastewater-related technical assistance, including such services as developing needs assessments, testing wastewater options, preliminary design assistance, developing regulatory guidance, and submitting applications for financial assistance. Additionally, the grant funds may be used to construct the identified solutions, including eligible associated costs. Funding must benefit communities that are historically impoverished, as defined within this notice.

2. Statutory and Regulatory Authority. The program is authorized pursuant to 5 U.S.C. 301; 7 U.S.C. 1989; 16 U.S.C. 1005; Division B, Title VII General Provisions, Section 783 of the Further Consolidated Appropriations Act, 2020 (Pub. L. 116-94); and Division A, Title VII General Provisions, Section 771 of the Consolidated Appropriations Act, 2021 (Pub. L. 116-260). The program is implemented through 7 CFR part 1775, Technical Assistance Grants, and the provisions of this NOFO. Other Federal statutes and regulations are listed at 7 CFR 1775.8, Other Federal statutes.

3. Definitions. The terms and conditions provided in this NOFO are applicable to and for purposes of this NOFO only. In addition to the definitions provided below, the definitions found in 7 CFR 1775.2, Definitions, are also applicable to this grant opportunity.

Consortium means regional institutions of higher education, academic health and research institutes, economic development entities, or a combination thereof, located in the region identified to be served that have experience in addressing these issues in the region.

Consortium agreement means a document, signed and dated, by all members of the consortium, which identifies how each organization will interact, every member's level of commitment, roles and responsibilities, and the transfer of funds from the lead entity to other members. An appropriate level of detail should be included to outline, among other items: minimum and maximum levels of involvement, ownership of any resulting tangible or intangible items developed from the Consortium's efforts, and the use of resources. The agreement must address whether the members of the consortium will conduct work for the project directly, via contract, or some other arrangement. As part of the application, if the consortium agreement is more than 12 months old, a certification stating that none of the members or provisions within the existing document have been modified or otherwise changed must be provided. The consortium agreement must be in effect through the defined period of performance for the proposed project.

Eligible project costs means only those costs incurred during the grant period and that are directly related to the use and purposes of the TAC-RWTS Grant Pilot Program. See Section C.3. of this notice for eligible project costs.

Historically impoverished refers to any community meeting criteria for persistent poverty counties, which according to Division A, Title VII General Provisions, Section 736 of the Consolidated Appropriations Act, 2022 (Pub. L. 117-103), dated March 15, 2022, is any county that has had 20 percent or more of its population living in poverty over the past 30 years, as measured by the 1990 and 2000 decennial censuses, and 2007-2011 American Community Survey 5-year average.

Mid-South is a region of the United States consisting of Alabama, Arkansas, Kentucky, Missouri, Mississippi, Oklahoma, and Tennessee.

Rural means cities, towns, or unincorporated areas that individually have populations of no more than 10,000 inhabitants as adjusted by exclusion of individuals incarcerated on a long-term or regional basis and the exclusion of the first 1,500 individuals who reside in housing located on a military base, according to the most recent decennial Census of the United States. The area to be served may be made up of combinations of these eligible areas. If the applicable population figure cannot be obtained from the most recent decennial Census, RUS will determine the applicable population figure based on available population data. Facilities financed may be located in non-rural areas. However, funds may be used to finance only that portion of the facility serving rural areas, regardless of facility location.

4. Application of Awards. The Agency will review, evaluate, and score applications received in response to this notice based on 7 CFR part 1775 and the terms and conditions of this NOFO. The scoring criteria is found within this notice. Awards will be made in alignment with the eligibility and scoring criteria. The Agency advises all interested parties that the applicant bears the full burden in preparing and submitting an application in response to this notice, regardless if the project is selected for funding.

B. Federal Award Information

Type of Award: Grant.

Fiscal Year Funds: FY 2023.

Available Funds: A minimum of $5,150,091 is made available to eligible applicants, to remain available until expended. RUS may at its discretion, increase the total level of funding available in this notice from any available source provided the awards meet the requirements of the statute which made the funding available to the Agency.

Award Amounts: There is no stated minimum or maximum award.

Anticipated Award Date: July 1, 2023.

Performance Period: To be determined by application, not in excess of one calendar year for technical assistance based projects and four calendar years for construction based projects from the start of the period of performance. This includes the completion of application documents, environmental reviews, construction, transfer of facility, and any other associated actions. Any project containing construction will be considered to be construction-based.

Renewal or Supplemental Awards: Applications for renewal or supplementation of existing projects are NOT eligible to compete with applications for new Federal awards under this program. Funding provided through this NOFO does not guarantee or otherwise imply any future commitment of funding. Should additional RUS funding be needed to carry out the proposed scope of work, the application requirements of each program will be applicable.

Type of Assistance Instrument: Grant Agreement.

C. Eligibility Information

1. Eligible Applicants. Grants under this funding opportunity will be made to qualified regional consortiums. A consortium is as defined in Section A.3. of this NOFO. An applicant is eligible to apply for the TAC-RWTS grant, on behalf of the consortium, if it:

(a) Represents an eligible consortium;

(b) Is legally established prior to the submission of the application and located within one of the following:

(i) A state within the United States;

(ii) The District of Columbia;

(iii) The Commonwealth of Puerto Rico; or

(iv) A U.S. territory or Federally Associated State;

(c) Has the legal capacity and authority to carry out the grant purpose;

(d) Demonstrates that it possesses the financial, technical, and managerial capability to comply with federal and state laws and requirements. For construction projects whereby ownership is retained by the applicant or consortium, the applicant must demonstrate within the application that the facility owner has the capacity to own, operate, and maintain the facility;

(e) Has no delinquent debt to the federal government or no outstanding judgments to repay a federal debt; and,

(f) Is not a corporation that has been convicted of a felony (or had an officer or agent acting on behalf of the corporation convicted of a felony) within the past 24 months. Any corporation that has any unpaid federal tax liability that has been assessed, for which all judicial and administrative remedies have been exhausted or have lapsed, and that is not being paid in a timely manner pursuant to an agreement with the authority responsible for collecting the tax liability is not eligible.

2. Ownership Eligibility. Should the proposed project lead to the construction of a public wastewater facility that is owned, operated, and maintained by an entity that is not the TAC-RWTS applicant:

(a) The entity shall be:

(i) A public body, such as a municipality, county, district, authority, or other political subdivision of a state, territory or commonwealth;

(ii) An organization operated on a not-for-profit basis, such as an association, cooperative, or private corporation. The organization must be an association controlled by a local public body or bodies, or have a broadly based ownership by or membership of people of the local community; or

(iii) Indian Tribes on Federal and State reservations and other federally recognized Indian Tribes.

(b) The entity must be a party to the consortium agreement or otherwise confirm their commitment in writing from an authorized representative. The letter must reference the appropriate votes, resolutions, or other actions taken by the entity's leadership to participate and assume ownership of the constructed facility.

(c) The entity must be an active participant in the project and demonstrate the ability to own, operate, and maintain the facility, including compliance with state and Federal laws.

3. Eligible Project Costs. Funding must benefit communities that are located within Historically Impoverished communities, as defined within this notice. For technical assistance efforts, eligible project costs are addressed in 7 CFR 1775.36(g) and 2 CFR part 200, subpart E. Funding may be used to pay for construction costs, including constructing, enlarging, extending, or otherwise improving wastewater facilities. When a necessary part of the construction project, funding may be used to pay for:

(a) Reasonable fees and costs such as: legal, engineering, administrative services, fiscal advisory, recording, environmental analyses and surveys, possible salvage or other mitigation measures, planning, establishing or acquiring rights;

(b) Costs of acquiring interest in land; rights, leases, permits, rights-of-way; and other evidence of land or protection necessary for development of the facility;

(c) Purchasing or renting equipment necessary to install, operate, maintain, extend, or protect facilities;

(d) Cost of additional applicant labor and other expenses necessary to install and extend service;

(e) The cost for connecting the user to the main service line; and

(f) Initial operating expenses, for a period ordinarily not exceeding one year when the applicant is unable to pay such expenses and adequate documentation is provided related to long-term sustainability.

4. Cost Sharing or Matching. There is no cost sharing or matching requirement.

5. Other. A special focus of this funding opportunity is raw sewage discharge in rural communities in the Mid-South, particularly historically impoverished communities in areas that have had difficulty utilizing RUS programs. These communities face unique challenges, both due to income level and soil type. Emphasis should be placed on promoting racial equity of service in rural communities and ensuring access to communities suffering from systemic racism and other forms of discrimination. Evidence must be provided to support:

(a) The Applicant's assertion that the beneficiaries are historically impoverished.

(b) The Applicant's assertion as to the difficulties surrounding the proposed area's soil conditions and why installing traditional wastewater has not been effective.

D. Application and Submission Information

1. Address to Request Application Package. The FY 2023 TAC-RWTS Program Application Guide, copies of necessary forms and samples, and the program regulations are available at https://www.rd.usda.gov/programs-services/water-environmental-programs/technical-assistance-and-construction-innovative-regional-wastewater-treatment-solutions-tac-rwts.

Application information is also available at https://www.grants.gov/.

2. Content and Form of Application Submission.

(a) To be considered for funding, applicants must be an eligible entity and must submit a complete application by the deadline date. Applicants should consult the cost principles and general administrative requirements for grants pertaining to their organizational type when preparing the budget and completing other parts of the application. Applications should be prepared in conformance with program regulations, and departmental and other applicable regulations including 2 CFR parts 180, 182, 200, 400 and 421, or any successor regulations.

(b) Applicants should carefully review the TAC-RWTS FY 2023 Application Guide. The application guide provides specific, detailed instructions for each item of a complete application. The Agency emphasizes the importance of including every item and strongly encourages applicants to follow the instructions carefully, using the examples and illustrations in the TAC-RWTS FY 2023 Application Guide. Applicants should ensure they are using the most updated version of the TAC-RWTS Application Guide before submitting an application. Any updates to the TAC-RWTS Application Guide will be posted at https://www.rd.usda.gov/programs-services/water-environmental-programs/technical-assistance-and-construction-innovative-regional-wastewater-treatment-solutions-tac-rwts. For the requirements of complete applications under this announcement, refer to 7 CFR 1775.10. Projects proposing technical assistance will be administered following 7 CFR part 1775. Applications selected for funding that are proposing construction will be required to adhere to the terms and conditions of this NOFO, 2 CFR part 200, and other applicable guidelines for administering and servicing the award. The requirements provided in 7 CFR part 1775, 2 CFR part 200, and the NOFO should be reviewed prior to applying, and the ability to comply must be noted within this application. That includes application items which may require the submission of documentation of the entity that will own, operate, and maintain the facility upon completion. Projects that include both technical assistance and construction must demonstrate the ability to meet all applicable provisions. The items at 7 CFR 1775.10(c)(3), (4), and (5) are no longer required to be separately submitted as part of the application, as they are covered under the Financial Assistance General Certifications and Representations referenced in item 3(c) of this Section. The application and any materials with it become Federal records by law and cannot be returned to you.

3. System for Award Management and Unique Entity Identifier.

(a) At the time of application, each applicant must have an active registration in the System for Award Management (SAM) before submitting its application in accordance with 2 CFR part 25, Universal Identifier and System for Award Management. To register in SAM, entities will be required to obtain and create a Unique Entity Identifier (UEI). Instructions for obtaining the UEI are available at https://sam.gov/content/entity-registration.

(b) Each applicant must maintain an active SAM registration, with current, accurate and complete information, at all times during which it has an active Federal award or an application under consideration by a Federal awarding agency.

(c) Each applicant must ensure they complete the Financial Assistance General Representations and Certifications in SAM.

(d) Applicants must provide a valid UEI in its application, unless determined exempt under 2 CFR 25.110, Exceptions.

(e) The Agency will not make an award until the applicant has complied with all SAM requirements including providing the UEI. If an applicant has not fully complied with the requirements by the time the Agency is ready to make an award, the Agency may determine that the applicant is not qualified to receive a Federal award and use that determination as a basis for making a Federal award to another applicant.

(f) The entity that will retain the rights to own, operate, and maintain the constructed facility will also be required to complete the registration requirements outlined above. The timing of any requirements will be outlined in the Grant Agreement issued following the selection of an application.

4. Submission Dates and Times. Applications must be submitted electronically and received no later than 11:59 p.m., ET, on July 31, 2023 to be eligible for FY 2023 funding. If the submission deadline falls on Saturday, Sunday, or a federal holiday, the application is due the next business day. Late or incomplete applications will not be eligible for FY 2023 grant funding.

The Agency will not solicit or consider new scoring or eligibility information that is submitted after the application deadline. RUS also reserves the right to ask applicants for clarifying information and additional verification of assertions in the application.

5. Intergovernmental Review. Executive Order (E.O.) 12372, “Intergovernmental Review of Federal Programs,” is not required for this program.

6. Funding Restrictions. Applications must be for eligible purposes as defined above. Technical assistance applications must comply with the grant fund limitations found within 7 CFR 1775.5. Funding may not be used to pay for the following construction-related costs:

(a) Facilities which are not modest in size, design, and cost;

(b) Grant finder's fees;

(c) The construction of any new combined storm and sanitary sewer facilities;

(d) Any portion of the cost of a facility which does not serve a rural area;

(e) That portion of project costs normally provided by a business or industrial user, such as wastewater pretreatment, etc.;

(f) Rental for the use of equipment or machinery owned by the applicant;

(g) For other purposes not directly related to operating and maintenance of the facility being installed or improved; and

(h) Pay project costs when other funding is a guaranteed loan obtained in accordance with 7 CFR part 5019.

7. Other Submission Requirements. Applications and supporting information will not be accepted via, fax, electronic mail, or any other medium other than through www.Grants.gov.

E. Application Review Information

1. Criteria. All applications that are complete and eligible will be scored and ranked competitively. The categories for scoring criteria used are the following:

Scoring criteria | Points
(1) Degree of Expertise: Applicant's experience in providing services similar to those proposed and description of successfully completed projects including the need that was identified and objectives accomplished | Up to 10 points.
(a) More than ten years of experience | 10 points.
(b) Five to ten years of experience | 5 points.
(c) Less than five years of experience | 0 points.
(2) Applicant Resources: (staff vs. contract personnel) | Up to 10 points.
(a) At least 75% consortium staff | 10 points.
(b) 50% to 74.99% staff | 5 points.
(c) Less than 50% staff * (See Regulatory Requirement) | 0 points or Ineligible.
(3) Service Area: Direct Efforts Towards Identified Communities in Historically Impoverished Counties | Up to 15 points.
(4) Direct Efforts Towards Identified Communities in the Mid-South Region | Up to 15 points.
(5) Goals/Objectives: Goals/objectives are clearly defined and tied to need, results and measurable outcomes | Up to 10 points.
(6) Needs Assessment: The problem/issue being addressed is clearly defined, supported by data, and addresses the need | Up to 10 points.
(7) Scope of Work: Extent to which the work plan clearly articulates a well-thought-out approach to accomplishing objectives; and clearly defines how the applicant would respond to historically impoverished communities in areas which have had difficulty installing traditional wastewater treatment systems due to soil conditions ** | Up to 35 points.
(8) Innovative Approach: Innovative Approach to Identifying and Targeting Wastewater Treatment | Up to 10 points.
(9) Sustainability: Applicant demonstrates ability to sustain project without federal award using a thorough financial analysis to include: cash on hand, projected revenues, outside source contributions, and show a steady increase to sustainability within five years | Up to 10 points.
(10) In-Kind Support | Up to 10 points.
(a) Demonstrated commitment of non-federal resources of more than 25% of total budget | 10 points.
(b) Demonstrated commitment of non-federal resources 10-25% of total budget | 5 points.
(c) Less than 10 percent of non-federal resources of total budget | 0 points.
(11) Administrator Discretion: RUS Administrator may provide additional points based on the following factors: geographic, economic, agency priority issues *** | Up to 15 points.
* Technical Assistance related efforts must adhere to 7 CFR 1775.35(e)(3).
** USDA has an online resource that can be used for evaluation and determining soil conditions, which can then be used to support the proposed project scope of work. Resource can be accessed here: https://websoilsurvey.sc.egov.usda.gov/.
*** Administrator Points—To receive points, the project must be located in a Disadvantaged Community or a Distressed Community. A Disadvantaged Community will be determined by the Agency by using the Council on Environmental Quality's Climate and Economic Justice Screening Tool (which is incorporated into the USDA look-up map) which identifies communities burdened by climate change and environmental injustice. Additionally, all communities within the boundaries of Federally Recognized Tribes and Alaska Native Villages will also be determined to be Disadvantaged Communities by the Agency. Distressed Community will be determined by the Agency by using the Economic Innovation Group's Distressed Communities Index (which is incorporated into the USDA look-up map), which uses several socio-economic measures to identify communities with low economic well-being. To determine if your project is located in a Disadvantaged Community or a Distressed Community, please use the following USDA look-up map: https://ruraldevelopment.maps.arcgis.com/apps/webappviewer/index.html?id=4acf083be4c44bb7864d90f97de0c788. The administrator points will be awarded solely on the aforementioned factors, up to a total of 15 points.

Applicants may contract with a nonaffiliated organization for not more than 49 percent of the grant to provide the proposed assistance. Projects proposing technical assistance efforts through contracting that exceed 49 percent are ineligible. RUS's definition of an affiliated organization is as follows:

In corporate law and taxes, an affiliate is a company that is related to another company, usually by being in the position of a member or a subordinate role (must be verified by organizational documentation). Two companies may be affiliated if one company has control over the other or if both are controlled by a third company. One corporation can be affiliated with another corporation by shareholdings, by holding a minority interest, or one corporation might be a subsidiary of another.

2. Review and Selection Process. RUS will acknowledge the application's receipt via an email to the applicant. The following actions will be taken:

(a) Incomplete or ineligible applications as of the deadline for submission will not be considered. If an application is determined to be incomplete or ineligible, the applicant will be notified in writing.

(b) Complete, eligible applications will be evaluated competitively by a review team, composed of at least three RUS employees selected from the Water Programs Division. They will make overall recommendations based on the program elements found in 7 CFR part 1775 and this NOFO, including review criteria presented in this notice. They will award points as described in the scoring criteria within this notice. Each application will receive a score based on the averages of the reviewers' scores and discretionary points awarded by the RUS Administrator. RUS reserves the right to request additional information once an application is determined to be complete to minimize the risk of duplication of other federal efforts.

(c) Applications will be ranked, and grants awarded based upon the scoring results and funding availability. At RUS's discretion, projects scoring too low may not be awarded funding even if funding remains available.

(d) Regardless of the score an application receives, if RUS determines that the project is technically infeasible, RUS will notify the applicant, in writing, and no further action will be taken.

(e) The Agency reserves the right to offer the applicant less than the grant funding requested.

F. Federal Award Administration Information

1. Federal Award Notices.

(a) Application Outcomes. There are four possible outcomes following the submission of an application under the TAC-RWTS program. RUS reserves the right to make no grant award if all applications are ineligible, incomplete, and/or do not meet the established program objectives and priorities. RUS may determine that the application is:

(i) Eligible and selected for funding,

(ii) Eligible but offered less funds than requested,

(iii) Eligible but not selected for funding due to ranking of all applications, or

(iv) Ineligible for the grant.

(b) Award Notices. Applicants selected for funding will be sent an award letter, accompanied by a grant agreement, which outlines the terms and conditions of the award, and other applicable documents. Pursuant to the grant agreement, grant funds may be released over the course of the period of performance in reimbursement for the completion of eligible, approved activities which do not duplicate similar federal efforts or tasks. The grant agreement may also include reporting and pre-approval requirements consistent with 2 CFR part 200, 7 CFR part 1775, and this NOFO which if not met, may result in a delay in reimbursement, disallowance of expense, or a suspension of the grant.

(c) Payments and Reimbursements. Grantees will be reimbursed as delineated at 7 CFR 1775.18 and 1780.45, this NOFO, and the grant agreement, as applicable. No funds will be disbursed prior to Agency's receipt of the fully executed grant agreement. Funding requests may be submitted for allowable costs up to monthly and must include the appropriate supporting documentation. For construction-related projects, supporting documentation may include copies of payments made to contractors and other parties, and evidence of the completed work. The grantee is responsible for the monitoring and oversight of any construction development, including the monitoring of progress related to the goals and objectives of the award.

(d) Scope of Services. The scope of work will be attached to the executed grant agreement. The grantee is responsible for ensuring that all contractual, legal, and program requirements are met prior to starting work. Construction projects that require refinement to the scope of work post-obligation will provide an updated scope of work prior to proceeding with any design or entering into any contracts. RUS will review the scope of work to ensure that the project costs are eligible and then affix the revised scope of work to the grant agreement. The grantee must ensure that the updated scope of work documents and meets all accessibility, civil rights, environmental, and other applicable standards.

Any change in the scope of the project, budget adjustments of more than 10 percent of the total budget, or any other significant change in the project must be reported to and approved by the approval official by written amendment to the grant agreement. Any change not properly approved may be cause for termination of the grant.

(e) Additional requirements. All laborers, apprentices, and mechanics employed by contractors and subcontractors on projects funded directly by or assisted in whole or in part by and through the Federal Government pursuant to the Consolidated Farm and Rural Development Act shall be paid wages at rates not less than those prevailing on projects of a character similar in the locality as determined by the Secretary of Labor in accordance with 40 U.S.C. 3141-3148. Further details on eligible applicants and projects may be found in the relevant regulations listed in Section C of this notice.

2. Administrative and National Policy Requirements. There are no known unusual Administrative and National Policy Requirements associated with the TAC-RWTS Grant Pilot Program.

3. Reporting. Performance reporting, including applicable forms, narratives, financials, and other documentation, are to be completed and submitted in accordance with this NOFO and the provisions of 7 CFR part 1775, 2 CFR part 200, and the grant agreement, as applicable. It will be the grantee's responsibility to demonstrate how the costs are associated to the goals and objectives of the award. Further, all grantees must submit an audit or financial information covering the defined period of performance as outlined in this NOFO, 7 CFR part 1775, 2 CFR part 200, subpart F, and the grant agreement, as applicable.

Any public facilities constructed through this award whereby ownership is retained by the grantee will be serviced in accordance with 2 CFR part 200 and the grant agreement. Should the facility be transferred to an eligible entity, as defined within this NOFO, the grantee will complete a review of the technical, managerial, and financial capacity of the entity prior to transfer. The analysis will be submitted to RUS for review prior to completing the transfer. The facility will be serviced by the grantee until such time that the conditions of 2 CFR part 200 and the grant agreement are met. This includes monitoring the disposition of the facility, partially or in whole, related to this award.

G. Federal Awarding Agency Contacts

For general questions about this announcement, please contact Christina Cerio at Water-RD@usda.gov or (315) 403-3112. The program website also provides up to date contact information at https://www.rd.usda.gov/programs-services/water-environmental-programs/technical-assistance-and-construction-innovative-regional-wastewater-treatment-solutions-tac-rwts.

H. Domestic Content Procurement Preferences

1. Build America, Buy America. Awardees that are Non-Federal Entities, defined pursuant to 2 CFR 200.1 as any State, local government, Indian tribe, Institution of Higher Education, or nonprofit organization, shall be governed by the requirements of Section 70914 of the Build America, Buy America Act (BABAA) within the Infrastructure Investment and Jobs Act (IIJA). Any requests for waiver of these requirements must be submitted pursuant to USDA's guidance available online at https://www.usda.gov/ocfo/federal-financial-assistance-policy/USDABuyAmericaWaiver.

2. American Iron and Steel. Awardees that are not subject to BABAA requirements detailed above shall be governed by the American Iron and Steel (AIS) requirements mandated by the Consolidated Appropriations Act of 2023, Section 734 Division A, Title VII. Any requests for waiver of these requirements must be submitted pursuant to USDA's guidance available online at https://www.rd.usda.gov/water-and-waste-disposal-programs-american-iron-and-steel-requirement.

I. Other Information

1. Paperwork Reduction Act. In accordance with the Paperwork Reduction Act of 1995 (44 U.S.C. chapter 35), the information collection requirements associated with the programs, as covered in this notice, have been approved by the Office of Management and Budget (OMB) under OMB Control Number 0572-0112.

2. National Environmental Policy Act. All recipients under this notice are subject to the requirements of 7 CFR part 1970, Environmental Policies and Procedures. However, awards for technical assistance under this notice are classified as a Categorical Exclusion (CE) according to 7 CFR 1970.53(b), CEs involving no or minimal disturbance without an environmental report, and usually do not require any additional documentation. RUS will review each grant application to determine its compliance with 7 CFR part 1970. The applicant may be asked to provide additional information or documentation to assist RUS with this determination.

3. Federal Funding Accountability and Transparency Act. All applicants, in accordance with 2 CFR part 25, must be registered in SAM and have a UEI number as stated in Section D.3. of this notice. All recipients of Federal financial assistance are required to report information about first-tier sub-awards and executive total compensation in accordance with 2 CFR part 170, Reporting subaward and executive compensation information.

4. Civil Rights Act. All grants made under this notice are subject to Title VI of the Civil Rights Act of 1964 as required by the USDA (7 CFR part 15, subpart A—Nondiscrimination in Federally-Assisted Programs of the Department of Agriculture—Effectuation of Title VI of the Civil Rights Act of 1964) and Section 504 of the Rehabilitation Act of 1973, Title VIII of the Civil Rights Act of 1968, Title IX, Executive Order 13166 (Limited English Proficiency), Executive Order 11246, and the Equal Credit Opportunity Act of 1974.

5. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/oascr/program-discrimination-complaint-filing, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Andrew Berke,
Administrator, Rural Utilities Service, USDA Rural Development.

[FR Doc. 2023-11373 Filed 5-26-23; 8:45 am]

BILLING CODE 3410-15-P